SOCIAL SECURITY ADMINISTRATION

[Docket No. SSA 2017-0010]

Privacy Act of 1974, as Amended; Computer Matching Program (SSA/the Department of Labor (DOL)—Match Number 1003)

AGENCY: Social Security Administration (SSA).

ACTION: Notice of a renewal of an existing computer matching program that will expire on May 24, 2017.

SUMMARY: In accordance with the provisions of the Privacy Act, as amended, this notice announces a renewal of an existing computer matching program that we are currently conducting with DOL.

DATES: The deadline to submit comments on the proposed matching program is 30 days from the date of publication of this notice. The matching program will be effective on May 25, 2017, or once a minimum of 30 days after publication of this notice has elapsed, whichever is later. The matching program will expire on November 24, 2018.

ADDRESSES: Interested parties may comment on this notice by either telefaxing to (410) 966-0869 or writing to the Acting Executive Director, Office of Privacy and Disclosure, Office of the General Counsel, Social Security Administration, 617 Altmeyer Building, 6401 Security Boulevard, Baltimore, MD 21235-6401. All comments received will be available for public inspection at this address.

FOR FURTHER INFORMATION CONTACT: The Acting Executive Director, Office of Privacy and Disclosure, Office of the General Counsel, as shown above.

SUPPLEMENTARY INFORMATION:

A. General

The Computer Matching and Privacy Protection Act of 1988 (Pub. L. 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Mary Ann Zimmerman,
Acting Executive Director, Office of Privacy and Disclosure, Office of the General Counsel.

Notice of Computer Matching Program, SSA With the Department of Labor (DOL)

A. Participating Agencies:

SSA and DOL

B. Purpose of the Matching Program:

The purpose of this matching program is to establish the terms, conditions, and safeguards under which the Department of Labor (DOL) will disclose the DOL administered Part C Black Lung (BL) benefit data to us. We will match DOL's Part C BL data with our records of persons receiving Social Security disability benefits to verify that Part C BL beneficiaries are receiving the correct amount of Social Security disability benefits.

C. Authority for Conducting the Matching Program:

The legal authority for this agreement is executed in accordance with the Privacy Act of 1974, 5 U.S.C. 552a, as amended by the Computer Matching and Privacy Protection Act of 1988, as amended, and the regulations promulgated thereunder.

The legal authority for this agreement is section 224(h)(1) of the Social Security Act (Act), 42 U.S.C. 424a(h)(1). This legal authority requires any Federal agency to provide us with information in its possession that we may require for making a timely determination of the amount of reduction required under section 224 of the Act for workers' compensation offset.

D. Categories of Records and Persons Covered by the Matching Program:

Systems of Records:

SSA will match the DOL extract file against the MBR, SSA/ORSIS (60-0090), last fully published at 71 FR 1826 on January 11, 2006, as amended at 72 FR 69723 (December 10, 2007) and 78 FR 40542 (July 5, 2013). DOL's extract file is from DOL's OWCP, BL Benefit Payments file, DOL/OWCP-9, last fully published at 81 FR 25765 on April 29, 2016. Both agencies have published the appropriate routine uses to permit the disclosures necessary to conduct this match.

Number of Records:

DOL's monthly extract file will contain the necessary identifying and payment information for approximately 23,000 beneficiaries, all miners under age 65 entitled to receive Part C BL payments. We will match these DOL records against the MBR.

Specified Data Elements:

DOL's monthly extract file will contain each Part C BL beneficiary's Social Security number (SSN), name, date of birth, date of entitlement, payment status, current benefit amount, and effective date of the current benefit amount. We will determine which of the beneficiaries are receiving Social Security disability benefits and match the DOL data against the SSN, type of action code, and offset type for those beneficiaries in our MBR.

E. Inclusive Dates of the Matching Program:

The effective date of this matching program is May 25, 2017, or once a minimum of 30 days after publication of this notice has elapsed, whichever is later. The matching program will expire on November 24, 2018.

[FR Doc. 2017-23385 Filed 10-26-17; 8:45 am]

BILLING CODE 4191-02-P